NATIONAL AERONAUTICS AND SPACE ADMINISTRATION

[Notice 04-156]

Government-Owned Inventions, Available for Licensing

AGENCY: National Aeronautics and Space Administration.

ACTION: Notice of availability of inventions for licensing.

SUMMARY: The inventions listed below are assigned to the National Aeronautics and Space Administration, have been filed in the United States Patent and Trademark office, and are available for licensing.

DATES: December 29, 2004.

FOR FURTHER INFORMATION CONTACT: Jerry L. Seemann, Patent Counsel, Marshall Space Flight Center, Mail Code LS01, Huntsville, AL 35812; telephone (256) 544-6580; fax (256) 544-0258.

NASA Case No. MFS-31303-1-CO: Generalized Fluid System Simulation Program (GFSSP);

NASA Case No. MFS-31529-1: Motor Controller System For Large Dynamic Range Of Motor Operation;

NASA Case No. MFS-31595-1: Light Weight Precision Reflective Optics Manufacturing Process, Apparatus And Product Thereby;

NASA Case No. MFS-31838-1: Pressure Vessel With Improved Impact Resistance And Method Of Making The Same;

NASA Case No. MFS-31852-1: Achromatic Shearing Phase Sensor For Generating Images Indicative Of Measure(s) Of Alignment Between Segments Of A Segmented Telescope's Mirrors;

NASA Case No. MFS-32024-1: Fuel Tank For Liquefied Natural Gas;

NASA Case No. MFS-31648-1: Counter-Rotating Shoulder Mechanism For Friction Stir Welding;

NASA Case No. MFS-31823-1-DIV: Radio-Frequency Driven Dielectric Heaters For Non-Nuclear Testing In Nuclear Core Development;

NASA Case No. MFS-31918-1: Friction Stir Weld Tools;

NASA Case No. MFS-31924-1: Friction Stir Apparatus For Solid State Welding;

NASA Case No. MFS-32105-1: Ultrasonic Stir Welding Process And Apparatus.

Dated: December 10, 2004.
Keith T. Sefton,
Deputy General Counsel, Administration and Management.

[FR Doc. 04-28517 Filed 12-28-04; 8:45 am]

BILLING CODE 7510-13-P